DEPARTMENT OF JUSTICE

Notice of Lodging of a Consent Decree Under the Clean Water Act

Notice is hereby given that on August 24, 2011; a proposed Consent Decree in United States and the State of Ohio v. City of Euclid, Ohio, Civil Action No. 1:11-CV-01783 was lodged with the United States District Court for the Northern District of Ohio.

In this action the United States and the State of Ohio seeks civil penalties and injunctive relief for violations of the Clean Water Act, 33 U.S.C. 1251 et seq., in connection with the City of Euclid's operation of its municipal wastewater and sewer system. The Complaint alleges that the City discharges combined sewer overflows (“CSOs”) and sanitary sewer overflows (“SSOs”) in violation of the Clean Water Act because, in the case of CSOs, the discharges of sewage violate limitations and conditions in the City's National Pollutant Discharge Elimination System (NPDES) permit, and, in the case of SSOs, the discharges of sewage are not authorized by the City's NPDES permit. The Complaint further alleges that the City bypasses treatment processes at its treatment plants, which also violate its NPDES permit.

Under the proposed Consent Decree, Euclid will be required to submit to the United States Environmental Protection Agency (“EPA”) and the Ohio Environmental Protection Agency (“Ohio EPA”) an acceptable long term control plan to reduce its CSOs and treatment plant bypasses, and an SSO elimination plan to eliminate its SSOs. Once EPA and Ohio EPA approve the plans, Euclid will be required to implement the plans. The SSO work must be completed no later than December 31, 2020, and the CSO and treatment plant work must be completed and placed into full operation no later than December 31, 2026. The City will pay $150,000 in civil penalties to be split evenly between the United States and the State of Ohio.

The Department of Justice will receive for a period of thirty (30) days from the date of this publication comments relating to the proposed Consent Decree. Comments should be addressed to the Assistant Attorney General, Environment and Natural Resources Division, and either e-mailed to pubcomment-ees.enrd@usdoj.gov or mailed to P.O. Box 7611, U.S. Department of Justice, Washington, DC 20044-7611, and should refer to United States v. City of Euclid, Ohio, D.J. Ref. 90-5-1-1-08727.

The proposed Consent Decree may be examined at the Office of the United States Attorney, Northern District of Ohio, 801 West Superior Avenue, Suite 400, Cleveland, OH 44113 (contact Assistant United States Attorney Steven J. Paffilas (216) 622-3698), and at U.S. Environmental Protection Agency, Region 5, 77 West Jackson Boulevard, Chicago, IL 60604-3590 (contact Associate Regional Counsel Joe Williams (312) 886-6631). During the public comment period, the proposed Consent Decree, may also be examined on the following Department of Justice Web site, to http://www.usdoj.gov/enrd/Consent_Decrees.html. A copy of the proposed consent decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $37.75 (25 cents per page reproduction cost) payable to the U.S. Treasury or, if by email or fax, forward a check in that amount to the Consent Decree Library at the stated address. In requesting a copy exclusive of exhibits, please enclose a check in the amount of $10 (25 cents per page reproduction cost) payable to the U.S. Treasury.

Maureen M. Katz,
Assistant Chief, Environmental Enforcement Section, Environment and Natural Resources Division.

[FR Doc. 2011-22068 Filed 8-29-11; 8:45 am]

BILLING CODE 4410-15-P